DEPARTMENT OF TRANSPORTATION

Federal Highway Administration

Environmental Impact Statement: City & County of Denver, CO

AGENCY: Federal Highway Administration (FHWA), DOT.

ACTION: Notice of intent.

SUMMARY: The FHWA is issuing this notice to advise the public that an environmental impact statement will be prepared for a proposed highway project in the City and County of Denver, Colorado.

FOR FURTHER INFORMATION CONTACT: Mr. Shaun Cutting, Senior Operations Engineer, FHWA Colorado, 555 Zang Street, Suite 250, Lakewood, CO 80228, telephone: (303) 969-6730 or Mr. Tony Gross, Project Engineer, Colorado Department of Transportation-Region 6, 2000 South Holly Street, Denver, Colorado 80222, Telephone: (303) 972-9112.

SUPPLEMENTARY INFORMATION: the FHWA, in cooperation with the Colorado Department of Transportation (CDOT), hereby give notice of intent to prepare an Environmental Impact Statement (EIS) in accordance with the National Environmental Policy Act (NEPA) on a proposal to improve I-25 and US 6 in Denver, Colorado. The proposed improvements involve the reconstruction of the existing I-25 between Logan Street and US 6 of a distance of about 2.5 miles and US 6 interchange improvements for Bryant Street and Federal Boulevard.

Improvements to this existing National Highway System (NHS) corridor are considered necessary to provide for the existing and projected traffic demand. Included in this proposal are the reconstruction, reconfiguration, and rehabilitation of an aging substandard highway corridor with operational, safety and geometric deficiencies. Past studies along this portion of I-25 and US 6 have indicated several roadway deficiencies such as structural integrity problems with viaducts, ramp configurations, current vehicle capacity, system linkage and public safety.

Alternatives under consideration include but are not limited to (1) taking no action; (2) reconstruction or realignment of the I-25 and US 6 interchanges/local interchanges to current practices; (3) add lanes to reconfigure I-25 and/or 6th Avenue to achieve lane balance consistent with adjacent projects, and (4) enhance intermodal accessibility to the Denver Regional Transportation District (RTD) transit facilities and consideration of local transportation plans. Incorporated into and to be studied with the various build alternatives will be design variations of grade, alignment and interchange configurations at Broadway/Lincoln, Santa Fe, Alameda, US 6, Bryant Street and Federal Boulevard.

Letters describing the proposed action and soliciting comments will be sent to appropriate Federal, State, and local agencies, and to private organizations and citizens who have previously expressed or are known to have interest in this proposal. A series of public meetings, including a public scoping meeting will be held in the project area in the fall of 2002. In addition, public hearings will be held after the publication and issuance of the Draft Environmental Impact Statement and the Final Environmental Impact Statement. Public notice will be given of the time and place of the meetings and hearings. The Draft Environmental Impact Statement and Final Environmental Impact Statement will be available for public and agency review and comment prior to the public hearings.

To ensure that the full range of issues related to this proposed action are addressed and all significant issues identified, comments and suggestions are invited from all interested parties. Comments or questions concerning this proposed action and the EIS should be directed to the FHWA or the Colorado Department of Transportation at the addresses provided above.

Issued on: July 17, 2002.
(Catalog of Federal Domestic Assistance Program Number 20.205, Highway Planning and Construction. The regulations implementing Executive Order 12372 regarding intergovernmental consultation on Federal programs and activities apply to this program)
Doug Bennett,
Assistant Division Administrator, Colorado Division, Federal Highway Administration, Lakewood, Colorado.

[FR Doc. 02-18515 Filed 7-22-02; 8:45 am]

BILLING CODE 4910-22-M